DEPARTMENT OF THE TREASURY

Submission for OMB Review; Comment Request

September 26, 2000.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW., Washington, DC 20220 to be assured of consideration.

DATES: Written comments should be received on or before November 2, 2000 to be assured of consideration.

Internal Revenue Service (IRS)

OMB Number: 1545-1696.

Form Number: IRS Form 8872.

Type of Review: Extension.

Title: Political Organization Report of Contributions and Expenditures.

Description: Internal Revenue Code section 527(j) requires certain political organizations to report certain contributions received and expenditures made after July 1, 2000. Every section 527 political organization that accepts a contribution or makes an expenditure for an exempt function during the calendar year must file Form 8872, except for: A political organization that is not required to file Form 8871 or a state or local committee of a political party or political committee of a state or local candidate.

Respondents: Not-for-profit institutions.

Estimated Number of Respondents/Recordkeepers: 10,000.

Estimated Burden Hours Per Respondent/Recordkeeper:

Recordkeeping—19 hr., 7 min.

Learning about the law or the form—18 min.

Preparing and sending the form to the IRS—37 min.

Frequency of Response: On occasion.

Estimated Total Reporting/Recordkeeping Burden: 802,000 hours.

Clearance Officer: Garrick Shear, Internal Revenue Service, Room 5244, 1111 Constitution Avenue, NW, Washington, DC 20224.

OMB Reviewer: Alexander T. Hunt (202) 395-7860, Office of Management and Budget, Room 10202, New Executive Office Building, Washington, DC 20503.

Lois K. Holland,
Departmental Reports Management Officer.

[FR Doc. 00-25298 Filed 10-2-00; 8:45 am]

BILLING CODE 4830-01-P